DEPARTMENT OF THE TREASURY

Submission for OMB Review; Comment Request

March 29, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 7, 2001 to be assured of consideration.

Internal Revenue Service (IRS)

OMB Number: 1545-0004.

Form Number: IRS Form SS-8.

Type of Review: Extension.

Title: Determination of Worker Status for Purposes of Federal Employment Taxes and Income Tax Withholding.

Description: Form SS-8 is used by employers and workers to furnish information to IRS in order to obtain a determination as to whether a worker is an employee for purposes of Federal employment taxes and income tax withholding. IRS uses this information to make the determination.

Respondents: Business or other for-profit; Individuals or households, Not-for-profit institutions, Farms, Federal Government, State, Local or Tribal Government.

Estimated Number of Respondents/Recordkeeper: 69,000.

Estimated Burden Hours Per Respondent/Recordkeeper:

Recordkeeping—22 hr., 0 min.

Learning about the law or the form—47 min.

Preparing and sending the form to the IRS—1 hr., 11 min.

Frequency of Response: On occasion.

Estimated Total Reporting/Recordkeeping Burden: 165,462 hours.

OMB Number: 1545-0008.

Form Number: IRS Forms W-2, W-2c, W-2AS, W-2GU, W-2VI, W-3, W-3c, W-3cPR, W-3SS.

Type of Review: Extension.

Title: Wage and Tax Statements W-2/W-3 Series.

Description: Employers report income and withholding on Form W-2. Forms W-2AS, W-2GU and W-2VI are the United States possessions versions of Form W-2. The Form W-3 series is used to transmit Forms W-2 to the Social Security Administration (SSA). Forms W-2C, W-3c and W-3cPR are used to correct previously filed Forms W-2, W-3 and W-3cPR. Individuals use Form W-2 to prepare their income tax returns.

Respondents: Business or other for-profit, Individuals or households, Not-for-profit institutions, Farms, Federal Government, State, Local or Tribal Government.

Estimated Number of Respondents: 5,882,789.

Estimated Burden Hours Per Respondent:

Form | Response (minutes)
W-2 | 30
W-2c | 51
W-2AS | 23
W-2GU | 24
W-2VI | 24
W-3 | 29
W-3c | 22
W-3cPR | 30
W-3PR | 27
W-3SS | 24

Frequency of Response: Annually.

Estimated Total Reporting Burden: 1 hour.

OMB Number: 1545-0057.

Form Number: IRS Form 1024.

Type of Review: Extension.

Title: Application for Recognition of Exemption Under Section 501(a).

Description: Organizations seeking exemption from Federal Income tax under Internal Revenue Code section 501(a) as an organization described in most paragraphs of section 501(c) must use Form 1024 to apply for exemption. The information collected is used to determine whether the organization qualifies for tax-exempt status.

Respondents: Not-for-profit institutions.

Estimated Number of Respondents/Recordkeeper: 4,718.

Estimated Burden Hours Per Respondent/Recordkeeper:

Form/schedule | Recordkeeping | Learning about the law or the form | Preparing and sending the form to the IRS
1024, Parts I-III | 53 hr., 5 min | 2 hr., 17 min | 3 hr., 15 min.
Part IV | 1 hr., 12 min | 35 min | 52 min.
Schedule A | 2 hr., 52 min | 18 min | 21 min.
Schedule B | 1 hr., 40 min | 18 min | 20 min.
Schedule C | 58 min | 12 min | 13 min.
Schedule D | 4 hr., 4 min | 18 min | 22 min.
Schedule E | 1 hr., 40 min | 18 min | 20 min.
Schedule F | 2 hr., 23 min | 6 min | 8 min.
Schedule G | 1 hr., 55 min | 6 min | 8 min.
Schedule H | 1 hr., 40 min | 6 min | 8 min.
Schedule I | 5 hr., 30 min | 30 min | 37 min.
Schedule J | 2 hr., 23 min | 6 min | 8 min.
Schedule K | 3 hr., 21 min | 6 min | 10 min.

Frequency of Response: On occasion.

Estimated Total Reporting/Recordkeeping Burden: 291,542 hours.

OMB Number: 1545-0582.

Form Number: IRS Form 1139.

Type of Review: Extension.

Title: Corporation Application for Tentative Refund.

Description: Form 1139 is filed by corporations that expect to have a net operating loss, net capital loss, or unused general business credits carried back to a prior tax year. IRS uses Form 1139 to determine if the amount of the loss or unused credits is proper.

Respondents: Business or other for-profit.

Estimated Number of Respondents/Recordkeeper: 3,000.

Estimated Burden Hours Per Respondent/Recordkeeper:

Recordkeeping—26 hr., 33 min.

Learning about the law or the form—3 hr., 37 min.

Preparing the form—8 hr., 52 min.

Copying, assembling, and sending the form to the IRS—1 hr., 20 min.

Frequency of Response: On occasion.

Estimated Total Reporting/Recordkeeping Burden: 121,170 hours.

OMB Number: 1545-1226.

Regulation Project Number: FI-59-89 Final.

Type of Review: Extension.

Title: Proceeds of Bonds used for Reimbursement.

Description: The rules require record maintenance by a state or local government or section 501(c)(3) organization issuing tax-exempt bonds (“Issuer”) to reimburse itself for previously-paid expenses. This recordkeeping will establish that the issuer had an intent, when it paid an expense, to later issue a reimbursement bond.

Respondents: State, Local or Tribal Government, Not-for-profit institutions.

Estimated Number of Recordkeepers: 2,500.

Estimated Burden Hours Per Recordkeeper: 2 hours, 24 minutes.

Estimated Total Recordkeeping Burden: 6,000 hours.

OMB Number: 1545-1572.

Regulation Project Number: REG-120200-97 Final.

Type of Review: Extension.

Title: Election Not to Apply Look-Back Method in De Minimis Cases.

Description: The regulations provide rules for electing the benefits of section 460(b)(6) regarding not applying the look-back method to long-term contracts in de minimis cases.

Respondents: Business or other for-profit.

Estimated Number of Respondents: 20,000.

Estimated Burden Hours Per Respondent: 12 minutes.

Frequency of Response: Other (once).

Estimated Total Reporting Burden: 4,000 hours.

OMB Number: 1545-1574.

Form Number: IRS Form 1098-T.

Type of Review: Extension.

Title: Tuition Payments Statement.

Description: Section 6050S of the Internal Revenue Code requires eligible education institutions to report certain information regarding tuition payments to the IRS and to students. Form 1098-T has been developed to meet this requirement.

Respondents: Business or other for-profit; Not-for-profit institutions.

Estimated Number of Respondents/Recordkeeper: 7,000.

Estimated Burden Hours Per Respondent/Recordkeeper: 9 minutes.

Frequency of Response: Annually.

Estimated Total Reporting/Recordkeeping Burden: 3,372,585 hours.

OMB Number: 1545-1576.

Form Number: IRS Form 1098-E.

Type of Review: Extension.

Title: Student Loan Interest Statement.

Description: Section 6050S(b)(2) of the Internal Revenue Code requires persons (financial institutions, governmental units, etc.) to report $600 or more of interest paid on student loans to the IRS and the students.

Respondents: Business or other for-profit; Not-for-profit institutions, State, Local or Tribal Government.

Estimated Number of Respondents/Recordkeeper: 200,000.

Estimated Burden Hours Per Respondent/Recordkeeper: 3 minutes.

Frequency of Response: Annually.

Estimated Total Reporting/Recordkeeping Burden: 525,679 hours.

OMB Number: 1545-1577.

Regulation Project Number: REG-109704-97 NPRM.

Type of Review: Extension.

Title: HIPAA Mental Health Parity Act; Interim Rules for Mental Health Parity (Temporary).

Description: The regulations provide guidance for group health plans with mental health benefits about requirements relating to parity in the dollar limits imposed on mental health benefits and medical/surgical benefits.

Respondents: Business or other for-profit; Not-for-profit institutions, State, Local or Tribal Government.

Estimated Number of Respondents/Recordkeeper: 7,053.

Estimated Burden Hours Per Respondent/Recordkeeper: 28 minutes.

Frequency of Response: On occasion.

Estimated Total Reporting/Recordkeeping Burden: 3,280 hours.

OMB Number: 1545-1579.

Notice Number: Notice 98-1.

Type of Review: Extension.

Title: Nondiscrimination Testing.

Description: This notice provides guidance for discrimination testing under section 401(k) and (m) of the Internal Revenue Code as amended by section 1433(c) and (d) of the Small Business Job Protection Act of 1996. The guidance is directed to employers maintaining retirement plans subject to these Code sections.

Respondents: Business or other for-profit; Not-for-profit institutions.

Estimated Number of Respondents/Recordkeeper: 147,000.

Estimated Burden Hours Per Respondent/Recordkeeper: 20 minutes.

Estimated Total Reporting/Recordkeeping Burden: 49,000 hours.

OMB Number: 1545-1721.

Form Number: IRS Form 8875.

Type of Review: Extension.

Title: Taxable REIT Subsidiary Election.

Description: A corporation and a REIT use Form 8875 to jointly elect to have the corporation treated as a taxable REIT subsidiary as provided in section 856(I).

Respondents: Business or other for-profit.

Estimated Number of Respondents/Recordkeeper: 1,000.

Estimated Burden Hours Per Respondent/Recordkeeper:

Recordkeeping—6 hr., 56 min.

Learning about the law or the form—18 min.

Preparing, copying, and sending the form to the IRS—25 min.

Frequency of Response: Other (one-time).

Estimated Total Reporting/Recordkeeping Burden: 7,660 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 01-8321 Filed 4-4-01; 8:45 am]

BILLING CODE 4830-01-U